DEPARTMENT OF THE INTERIOR

Bureau of Land Management,

[CA0600-L12200000.AL0000.LXSS026B0000]

Notice of Intent To Collect Fees on Public Land in the San Joaquin River Gorge Special Recreation Management Area, in Eastern Fresno and Madera Counties, CA

AGENCY: Bureau of Land Management, Interior.

ACTION: Notice of Intent.

SUMMARY: Pursuant to applicable provisions of the Federal Lands Recreation Enhancement Act (REA), the Bureau of Land Management's (BLM) Bakersfield Field Office proposes to begin collecting fees in fiscal year 2011 at the San Joaquin River Gorge (SJRG) Special Recreation Management Area (SRMA) in eastern Fresno and Madera Counties, California, and by this notice is announcing the opening of the comment period. The fee proposal results from analysis and planning direction provided by the SJRG Business Plan, which outlines operational goals of the area and the purpose of the fee program.

DATES: To ensure that comments will be considered, the BLM must receive written comments on the BLM's proposal to collect fees in the SJRG SRMA by July 11, 2011. Effective 6 months after the publication of this notice, the BLM's Bakersfield Field Office would initiate fee collection in the San Joaquin River Gorge Special Recreation Management Area, unless the BLM publishes a Federal Register notice to the contrary.

ADDRESSES: You may submit comments on this fee collection proposal by any of the following methods:

• E-mail: Tim_Smith@blm.gov.

• Fax: (661) 391-6041.

• Mail: Field Manager, Bureau of Land Management, Bakersfield Field Office, 3801 Pegasus Drive, Bakersfield, California 93308.

Copies of the fee proposal are available in the Bakersfield Field Office at the above address and online at http://www.ca.blm.gov/bakersfield.

FOR FURTHER INFORMATION CONTACT: Timothy Z. Smith, Field Manager, telephone (661) 391-6000 or at the address above. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The San Joaquin River Gorge Management Area is a popular recreation area offering significant opportunities for outdoor recreation and has received substantial Federal investment. The BLM's commitment is to find the proper balance between public use and the protection of resources. The BLM's policy is to collect fees at all specialized recreation sites, or where the BLM at Federal expense provides facilities, equipment or services in connection with outdoor use. In an effort to meet increasing demands for services and maintenance of existing facilities, routes and trails, and provide enhanced recreation services and opportunities, the BLM proposes to implement a fee program for the SJRG SRMA which qualifies as a site wherein visitors can be charged a “Standard Amenity Fee” authorized under Section 803(f) of REA, 16 U.S.C. 6801 et seq. In accordance with REA and implementing regulations at 43 CFR 2930, visitors would purchase a Recreation Use Permit (RUP) to cover the standard amenity day use fee to recreate within the SRMA. The driver of each vehicle operating within the recreation area would be required to purchase and display the permit. Permits would expire at the end of the calendar day. Annual passes could also be purchased from the SJRG or Bakersfield Field Office, or at 3-Forests Interpretive Association sales outlets on the Sierra National Forest. Holders of the America the Beautiful Federal Lands Recreation Pass do not have to pay the standard amenity fee and are also entitled to discounts on expanded amenity fees such as camping. Valid Golden Age or Golden Access or Volunteer passes would also be accepted. Campers would be exempt from the standard amenity fee as long as the camping fee has been paid and a permit is displayed on the primary vehicle. Additional vehicles per site would pay the standard amenity (day use) fee, but would not have to pay the campsite fee unless the capacity of the campsite is exceeded. If site capacity is exceeded, the party would be required to purchase an additional campsite and they would be exempt from the standard amenity fee. Recreationists who are traveling into or through the area via foot, horse, or bicycle without using the facilities or services would be exempt from the standard amenity fee.

Suggested fees for use of a walk-in campsite at the campground are $10 single and $15 for double and triple sites. Fees for the use of the group campground would be $175 and $25 for non-exclusive use of the horse camp. Interpretive and educational programs would cost $15 per person for up to a half day (4 hours) and $20 per person for a full day (6+ hours). The proposal would also charge a $5 per vehicle day use fee. An annual pass would be available for $40.

The BLM's goal for the SJRG SRMA fee program is to ensure that funding is available to maintain and enhance existing facilities and recreational opportunities, to provide for increased law enforcement presence, to develop additional services such as expanding interpretive/educational programming, and to protect resources. All fees collected would be used for expenses within the SJRG SRMA.

In April 2010, the BLM published the SJRG Business Plan which outlines operational goals of the area and the purpose of the fee program. This Business Plan provides management direction for public access to a variety of recreational opportunities and landscapes while minimizing the potential for resource damage from authorized uses. The Plan also provides a market analysis of local recreation sites and sets the basis for the fee proposal. The plan is available on line at: http://www.blm.gov/ca/st/en/fo/bakersfield/Programs/Recreation_opportunities/SJRG_SRMA.

The SJRG Business Plan addresses recreation opportunities, the issuance of use permits, and the charging of fees for each primary vehicle for use of the Management Area. This Plan, prepared pursuant to REA and BLM recreation fee program policy, also addresses the establishment of a permit process and the collection of user fees. This Business Plan establishes the rationale for charging recreation fees. In accordance with the BLM recreation fee program policy, the Business Plan explains the fee collection process and outlines how the fees would be used at the SJRG SRMA. The BLM has notified and involved the public at each stage of the planning process, including the proposal to collect fees, through notifications on-site and several public meetings to present and gather ideas concerning fees within the SRMA. The Pacific Southwest Region Recreation Resource Advisory Committee (RRAC) recommended approval of the fee proposal at its June 24, 2010, meeting in Mammoth Lakes, California. Future adjustments in the fee amount would be modified in accordance with the SJRG Business Plan, and through consultation with the Pacific Southwest Region RRAC and the public prior to a fee increase. Fee amounts will be posted on-site and online at the Bakersfield Field Office Web site at: http://www.ca.blm.gov/bakersfield. Copies of the Business Plan will be available at the Bakersfield Field Office, at the San Joaquin River Gorge office, the BLM California State Office and online at Bakersfield Field Office Web site.

The BLM welcomes public comments on this proposal. Before including your address, phone number, e-mail address, or other personal identifying information in your comment, you should be aware that your entire comment—including your personal identifying information—may be made publicly available at any time. While you can ask us in your comment to withhold your personal identifying information from public review, we cannot guarantee that we will be able to do so.

Authority: 16 U.S.C. 6803(b) and 43 CFR 2932.13.

Kathryn D. Hardy,
Central California District Manager.

[FR Doc. 2011-14088 Filed 6-8-11; 8:45 am]

BILLING CODE 4310-40-P